DEPARTMENT OF AGRICULTURE

Animal and Plant Health Inspection Service

[Docket 05-063-1]

International Sanitary and Phytosanitary Standard-Setting Activities

AGENCY: Animal and Plant Health Inspection Service, USDA.

ACTION: Notice and request for comments.

SUMMARY: In accordance with legislation implementing the results of the Uruguay Round of negotiations under the General Agreement on Tariffs and Trade, we are informing the public of international standard-setting activities of the World Organization for Animal Health, the Secretariat of the International Plant Protection Convention, and the North American Plant Protection Organization, and we are soliciting public comment on the standards to be considered.

ADDRESSES: You may submit comments by either of the following methods:

Federal eRulemaking Portal: Go to http://www.regulations.gov and, in the “Search for Open Regulations” box, select “Animal and Plant Health Inspection Service” from the agency drop-down menu, then click on “Submit.” In the Docket ID column, select APHIS-2005-0097 to submit or view public comments and to view supporting and related materials available electronically. After the close of the comment period, the docket can be viewed using the “Advanced Search” function in Regulations.gov.

• Postal Mail/Commercial Delivery: Please send four copies of your comment (an original and three copies) to Docket No. 05-063-1, Regulatory Analysis and Development, PPD, APHIS, Station 3C71, 4700 River Road Unit 118, Riverdale, MD 20737-1238. Please state that your comment refers to Docket No. 05-063-1.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For general information on the topics covered in this notice, contact Mr. John Greifer, Director, Trade Support Team, International Services, APHIS, room 1132, South Building, 14th Street and Independence Avenue SW., Washington, DC 20250; (202) 720-7677. For specific information regarding standard-setting activities of the World Organization for Animal Health, contact Dr. Michael David, Director, Sanitary International Standards Team, VS, APHIS, 4700 River Road Unit 33, Riverdale, MD 20737-1231; (301) 734-5324. For specific information regarding the standard-setting activities of the International Plant Protection Convention or the North American Plant Protection Organization, contact Mr. Narcy Klag, Program Director, Phytosanitary Issues Management, PPQ, APHIS, 4700 River Road Unit 140, Riverdale, MD 20737-1236; (301) 734-8469.

SUPPLEMENTARY INFORMATION:

Background

The World Trade Organization (WTO) was established as the common international institutional framework for governing trade relations among its members in matters related to the Uruguay Round Agreements. The WTO is the successor organization to the General Agreement on Tariffs and Trade. U.S. membership in the WTO was approved by Congress when it enacted the Uruguay Round Agreements Act (Pub. L. 103-465), which was signed into law by the President on December 8, 1994. The WTO Agreements, which established the WTO, entered into force with respect to the United States on January 1, 1995. The Uruguay Round Agreements Act amended title IV of the Trade Agreements Act of 1979 (19 U.S.C. 2531 et seq.). Section 491 of the Trade Agreements Act of 1979, as amended (19 U.S.C. 2578), requires the President to designate an agency to be responsible for informing the public of the sanitary and phytosanitary (SPS) standard-setting activities of each international standard-setting organization. The designated agency must inform the public by publishing an annual notice in the Federal Register that provides the following information: (1) The SPS standards under consideration or planned for consideration by the international standard-setting organization; and (2) for each SPS standard specified, a description of the consideration or planned consideration of that standard, a statement of whether the United States is participating or plans to participate in the consideration of that standard, the agenda for U.S. participation, if any, and the agency responsible for representing the United States with respect to that standard.

“International standard” is defined in 19 U.S.C. 2578b as any standard, guideline, or recommendation: (1) Adopted by the Codex Alimentarius Commission (Codex) regarding food safety; (2) developed under the auspices of the World Organization for Animal Health (OIE, formerly known as the Office International des Epizooties), regarding animal health and zoonoses; (3) developed under the auspices of the Secretariat of the International Plant Protection Convention (IPPC) in cooperation with the North American Plant Protection Organization (NAPPO) regarding plant health; or (4) established by or developed under any other international organization agreed to by the member countries of the North American Free Trade Agreement (NAFTA) or the member countries of the WTO.

The President, pursuant to Proclamation No. 6780 of March 23, 1995 (60 FR 15845), designated the Secretary of Agriculture as the official responsible for informing the public of the SPS standard-setting activities of Codex, OIE, IPPC, and NAPPO. The United States Department of Agriculture's (USDA's) Food Safety and Inspection Service (FSIS) informs the public of Codex standard-setting activities, and USDA's Animal and Plant Health Inspection Service (APHIS) informs the public of OIE, IPPC, and NAPPO standard-setting activities.

FSIS publishes an annual notice in the Federal Register to inform the public of SPS standard-setting activities for Codex. Codex was created in 1962 by two United Nations organizations, the Food and Agriculture Organization (FAO) and the World Health Organization. It is the major international organization for encouraging international trade in food and protecting the health and economic interests of consumers.

APHIS is responsible for publishing an annual notice of OIE, IPPC, and NAPPO activities related to international standards for plant and animal health and representing the United States with respect to these standards. Following are descriptions of the OIE, IPPC, and NAPPO organizations and the standard-setting agenda for each of these organizations. We have described the agenda that each of these organizations will address at their annual general sessions, including standards that may be presented for adoption or consideration, as well as other initiatives that may be underway at the OIE, IPPC, and NAPPO.

The agendas for these meetings are subject to change, and the draft standards identified in this notice may not be sufficiently developed and ready for adoption as indicated. Also, while it is the intent of the United States to support adoption of international standards and to participate actively and fully in their development, it should be recognized that the U.S. position on a specific draft standard will depend on the acceptability of the final draft. Given the dynamic and interactive nature of the standard-setting process, we encourage any persons who are interested in the most current details about a specific draft standard or the U.S. position on a particular standard-setting issue, or in providing comments on a specific standard that may be under development, to contact APHIS. Contact information is provided at the beginning of this notice under FOR FURTHER INFORMATION CONTACT.

OIE Standard-Setting Activities

The OIE was established in Paris, France, in 1924 with the signing of an international agreement by 28 countries. It is currently composed of 167 member nations, each of which is represented by a delegate who, in most cases, is the chief veterinary officer of that country. The WTO has recognized the OIE as the international forum for setting animal health standards, reporting global animal disease events, and presenting guidelines and recommendations on sanitary measures relating to animal health.

The OIE facilitates intergovernmental cooperation to prevent the spread of contagious diseases in animals by sharing scientific research among its members. The major functions of the OIE are to collect and disseminate information on the distribution and occurrence of animal diseases and to ensure that science-based standards govern international trade in animals and animal products. The OIE aims to achieve this through the development and revision of international standards for diagnostic tests, vaccines, and the safe international trade of animals and animal products.

The OIE provides annual reports on the global distribution of animal diseases, recognizes the free status of member countries for certain diseases, categorizes animal diseases with respect to their international significance, publishes bulletins on global disease status, and provides animal disease control guidelines to member countries. Various OIE commissions and working groups undertake the development and preparation of draft standards, which are then circulated to member countries for consultation (review and comment). Draft standards are revised accordingly and then presented to the OIE General Session, which meets annually every May, for review and adoption. Adoption, as a general rule, is based on consensus of the OIE membership.

The next OIE General Session is scheduled for May 21-26, 2006, in Paris, France. Currently, the Minister-Counselor and APHIS Regional Director for Europe, Middle East, and Africa is the official U.S. delegate to the OIE. The Minister-Counselor and APHIS Regional Director intends to participate in the proceedings and will discuss or comment on APHIS' position on any standard up for adoption. Information about current and past OIE draft Code chapters may be found on the Internet at http://www.aphis.usda.gov/vs/ncie/oie/ or by contacting Dr. Michael David (see FOR FURTHER INFORMATION CONTACT above).

OIE Code Chapters Up for Adoption

Existing Code chapters that may be revised and new chapters that may be drafted in preparation for the next General Session in 2006 include the following:

1. Avian Influenza and Its Associated Appendix on Surveillance

The new proposed chapter on avian influenza introduces some significant changes. Only minor changes were incorporated into the chapter during the General Session. The more substantive country comments submitted to the OIE were carefully considered by the Code Commission during their September meeting. Any changes made during that meeting will be provided to member countries for review during late October or early November 2005.

2. Foot and Mouth Disease (FMD) and Its Associated Appendix on Surveillance

This chapter and its associated appendix on FMD surveillance has been updated to reflect current knowledge of FMD epidemiology and surveillance.

3. Bovine Spongiform Encephalopathy (BSE) and Its Associated Appendix on Surveillance

This chapter was adopted with several amendments. There is a commitment by the OIE to reconvene the ad hoc group to work on the Type A and Type B surveillance models mentioned in the appendix to better define these levels of surveillance and to clarify any sampling levels that may be recommended. Countries classified under the five-category system for BSE will retain their current classification for a 1-year transition period, after which time they will be reclassified under the new three-level classification system.

4. Zoning and Compartmentalization ¹

¹ This chapter was formerly known as Regionalization and Compartmentalization. The OIE is proposing the use of the term “zoning” in place of the term “regionalization” for this chapter to minimize confusion between member countries.

This chapter was modified to include language on partnership between the national veterinary services and the private sector, and to clarify the role of the national veterinary services in ensuring the integrity of a given compartment.

5. Criteria for Listing Diseases

This chapter is continuously being updated to reflect changes to the list of animal diseases that are required to be reported by Member Countries.

6. General Guidelines for Animal Health Surveillance

This is a new appendix that provides some generic guidelines for Member Countries on the criteria to consider when embarking on animal health surveillance programs.

7. Bluetongue

This chapter was recently updated to reflect the current knowledge on bluetongue virus epidemiology.

8. Classical Swine Fever

This chapter was updated slightly to reflect current knowledge on classical swine fever virus epidemiology.

Code Commission Future Work Program

During the next few years, the OIE Code Commission is expected to address the following issues or establish ad hoc groups of experts to update and/or develop standards for the following issues:

1. Companion Animal Welfare

This would be a new chapter intended to provide guidelines for the control of feral companion animals in urban settings.

2. Wildlife and Zoo Animal Welfare

This would be a new chapter intended to provide guidelines on the harvesting or culling of zoological and wildlife animals.

3. Laboratory Animal Welfare

This would be a new chapter intended to provide guidelines for the housing of laboratory animals, the use of animals in regulatory testing, and alternatives to animal use.

4. Terrestrial Animal Welfare

This would be a new chapter intended to provide general guidelines for the housing and production of terrestrial animals.

5. Animal Identification and Traceability

This would be a new chapter intended to improve procedures for identifying animals and animal products and monitoring their movements.

6. Johne's Disease (Paratuberculosis)

This would represent a complete redrafting of a current OIE Code chapter that has been determined to be outdated. A draft should be available within 1 or 2 years.

7. Brucellosis

This would represent a complete redrafting of a current OIE Code chapter that has been determined to be outdated.

8. African Horsesickness

This would represent a complete redrafting of a current OIE Code chapter that has been determined to be outdated.

9. Surra

This would represent a complete redrafting of a current OIE Code chapter that has been determined to be outdated.

10. Dourine

This would represent a complete redrafting of a current OIE Code chapter that has been determined to be outdated.

The Process

These chapters are drafted (or revised) by either the Code Commission or by ad hoc groups composed of technical experts nominated by the Director General of the OIE by virtue of their subject-area expertise. Once a new chapter is drafted or an existing one revised, the chapter is distributed to member countries for review and comment. The OIE attempts to provide proposed chapters by late October to allow member countries sufficient time for comment. Comments are due by early February of the following year. The draft standard is revised by the OIE Code Commission on the basis of relevant scientific comments received from member countries.

The United States (i.e., USDA/APHIS) intends to review and, where appropriate, comment on all draft chapters and revisions once it receives them from the OIE. USDA/APHIS intends to distribute these drafts to the U.S. livestock and aquaculture industries, veterinary experts in various U.S. academic institutions, and other interested persons for review and comment. Additional information regarding these draft standards may be obtained by contacting Dr. Michael David (see FOR FURTHER INFORMATION CONTACT above).

Generally, if a country has concerns with a particular draft standard, and supports those concerns with sound technical information, the pertinent OIE Code Commission will revise that standard accordingly and present the revised draft for adoption at the General Session in May. In the event that a country's concerns regarding a draft standard are not taken into account, that country may refuse to support the standard when it comes up for adoption at the General Session. However, each member country is obligated to review, comment, and make decisions regarding the adoption of standards strictly on their scientific merits.

Other OIE Topics

Every year at the General Session, two technical items are presented. For the May 2006 General Session, the following technical items will be presented:

1. Future approaches needed to ensure that veterinary education meets social demands.

2. Economic and social justification for investment in animal health and zoonosis.

The information in this notice includes all the information available to us on OIE standards currently under development or consideration. Information on OIE standards is available on the Internet at http://www.oie.int. Further, a formal agenda for the next General Session should be available to member countries by March 2006, and copies will be available to the public once the agenda is published. For the most current information on meeting times, working groups, and/or meeting agendas, including information on official U.S. participation in OIE activities, and U.S. positions on standards being considered, contact Dr. Michael David (see FOR FURTHER INFORMATION CONTACT above). Those wishing to provide comments on any areas of work under the OIE may do so at any time by responding to this notice (see ADDRESSES above) or by providing comments through Dr. Michael David.

IPPC Standard-Setting Activities

The IPPC is a multilateral convention adopted in 1952 for the purpose of securing common and effective action to prevent the spread and introduction of pests of plants and plant products and to promote appropriate measures for their control. Under the IPPC, the understanding of plant protection has been, and continues to be, broad, encompassing the protection of both cultivated and noncultivated plants from direct or indirect injury by plant pests. Activities addressed by the IPPC include the development and establishment of international plant health standards, the harmonization of phytosanitary activities through emerging standards, the facilitation of the exchange of official and scientific information among countries, and the furnishing of technical assistance to developing countries that are signatories to the IPPC.

The IPPC is placed under the authority of the FAO, and the members of the Secretariat of the IPPC are appointed by the FAO. The IPPC is implemented by national plant protection organizations in cooperation with regional plant protection organizations, the Interim Commission on Phytosanitary Measures (ICPM), and the Secretariat of the IPPC. The United States plays a major role in all standard-setting activities under the IPPC and has representation on FAO's highest governing body, the FAO Conference.

The United States became a contracting party to the IPPC in 1972 and has been actively involved in furthering the work of the IPPC ever since. The IPPC was amended in 1979, and the amended version entered into force in 1991 after two-thirds of the contracting countries accepted the amendment. More recently, in 1997, contracting parties completed negotiations on further amendments that were approved by the FAO Conference and submitted to the parties for acceptance. This 1997 amendment updated phytosanitary concepts and formalized the standard-setting structure within the IPPC. The 1997 amended version of the IPPC will enter into force on the thirtieth day after two-thirds of the current contracting parties notify the Director General of FAO of their acceptance of the amendment. At this date, 87 of the required 92 member countries have deposited their official letters of acceptance. The U.S. Senate gave its advice and consent to acceptance of the newly revised IPPC on October 18, 2000. The President submitted the official letter of acceptance to the FAO Director General on October 4, 2001.

The IPPC has been, and continues to be, administered at the national level by plant quarantine officials whose primary objective is to safeguard plant resources from injurious pests. In the United States, the national plant protection organization is APHIS' Plant Protection and Quarantine (PPQ) program. The steps for developing a standard under the revised IPPC are described below.

Step 1: Proposals for a new international standard for phytosanitary measures (ISPM) or for the review or revision of an existing ISPM are submitted to the Secretariat of the IPPC in a standardized format on a 2-year cycle. Alternately, the Secretariat can propose a new standard or amendments to existing standards.

Step 2: After review by the Standards Committee and the Strategic Planning and Technical Assistance Working Group, a summary of proposals is submitted by the Secretariat to the ICPM. The ICPM identifies the topics and priorities for standard setting from among the proposals submitted to the Secretariat and others that may be raised by the ICPM.

Step 3: Specifications for the standards identified as priorities by the ICPM are drafted by the Secretariat. The draft specifications are submitted to the Standards Committee for approval/amendment and are subsequently made available to members and regional plant protection organizations (RPPOs) for comment (60 days). Comments are submitted in writing to the Secretariat. Taking into account the comments, the Standards Committee finalizes the specifications.

Step 4: The standard is drafted or revised in accordance with the specifications by a working group designated by the Standards Committee. The resulting draft standard is submitted to the Standards Committee for review.

Step 5: Draft standards approved by the Standards Committee are distributed to members by the Secretariat and RPPOs for consultation (100 days). Comments are submitted in writing to the Secretariat. Where appropriate, the Standards Committee may establish open-ended discussion groups as forums for further comment. The Secretariat summarizes the comments and submits them to the Standards Committee.

Step 6: Taking into account the comments, the Secretariat, in cooperation with the Standards Committee, revises the draft standard. The Standards Committee submits the final version to the ICPM for adoption.

Step 7: The ISPM is established through formal adoption by the ICPM according to Rule X of the Rules of Procedure of the ICPM.

Step 8: Review of the ISPM is completed by the specified date or such other date as may be agreed upon by the ICPM.

Each member country is represented on the ICPM by a single delegate. Although experts and advisers may accompany the delegate to meetings of the ICPM, only the delegate (or an authorized alternate) may represent each member country in considering a standard up for approval. Parties involved in a vote by the ICPM are to make every effort to reach agreement on all matters by consensus. Only after all efforts to reach a consensus have been exhausted may a decision on a standard be passed by a vote of two-thirds of delegates present and voting.

Technical experts from the United States have participated directly in working groups and indirectly as reviewers of all IPPC draft standards. The United States also has a representative on the Standards Committee. In addition, documents and positions developed by APHIS and NAPPO have been sources of significant input for many of the standards adopted to date. This notice describes each of the IPPC standards currently under consideration or up for adoption. The full text of each standard will be available on the Internet at http://www.aphis.gov/ppq/pim/standards/. Interested individuals may review the standards posted on this Web site and submit comments via the Web site.

The next ICPM meeting is scheduled for April 3-7, 2006, at FAO Headquarters in Rome, Italy. The Deputy Administrator for APHIS' PPQ program is the U.S. delegate to the ICPM. The Deputy Administrator intends to participate in the proceedings and will discuss or comment on APHIS' position on any standards up for adoption. The provisional agenda for the Eighth Session of the Interim Commission on Phytosanitary Measures is as follows:

1. Opening of the session.

2. Adoption of the agenda.

3. Report by the chairperson.

4. Report by the Secretariat.

5. Standards up for adoption in 2006.

6. Items arising from the Seventh Session of the ICPM (see section below entitled “New Standard Setting Initiatives” for details).

7. Work program for harmonization.

8. Status of the 1997 revised IPPC.

9. Other business.

10. Date and venue of the next meeting.

11. Adoption of the report.

IPPC Standards Up for Adoption in 2006

It is expected that the following standards will be sufficiently developed to be considered by the ICPM for adoption at its April 2006 meeting. The United States, represented by APHIS' Deputy Administrator for PPQ, will participate in the consideration of these standards. The U.S. position on each of these issues will be developed prior to the ICPM session and will be based on APHIS' analysis, information from other U.S. Government agencies, and relevant scientific information from interested stakeholders. The standards that are most likely to be considered for adoption include:

1. Revision of ISPM 1, Principles for the Protection of Plant Health

This standard describes principles and concepts for the protection of plant health that are embodied in the New Revised Text of the IPPC (1997). It covers principles related to the protection of plants, including cultivated and non-cultivated/unmanaged plants and wild flora, principles regarding the application of phytosanitary measures to the international movement of people, commodities, and conveyances, as well as other principles and concepts inherent in the objectives of the IPPC (1997).

2. Guidelines for Consignments in Transit

This standard describes procedures to identify, assess, and manage phytosanitary risks associated with consignments of regulated articles passing through, but not destined for, the territory of a country, in such manner that any phytosanitary measures applied in the country of transit are technically justified and necessary to prevent the introduction into and/or spread of pests within that country.

3. Requirements for the Establishment and Maintenance of Pest-Free Areas for Tephritid Fruit Flies

This standard provides the guidelines to establish, maintain, and verify pest-free areas for tephritid fruit flies. This standard applies to all fruit flies of economic importance.

4. Diagnostic Protocols for Regulated Pests

This standard provides specific guidance on the structure and content of diagnostic protocols. It also provides guidance on how these protocols will be initiated, reviewed, and published. These protocols describe procedures and methods for the detection and identification of pests that are regulated by contracting parties and relevant for international trade. They are addressed to diagnosticians/diagnostic laboratories performing official tests as part of phytosanitary measures. They provide at least the minimum requirements for reliable diagnosis of the relevant pests.

5. Requirements for the Submission of Phytosanitary Treatments

This standard describes the criteria for a phytosanitary treatment and the requirements for submitting a proposed phytosanitary treatment for inclusion in the ISPM under development on phytosanitary treatments. Treatments considered in this standard are applied to commodities or to regulated articles. Pesticide registration is the responsibility of each contracting party and is not part of this standard.

New Standard-Setting Initiatives, Including Those in Development

A number of expert working group meetings or other technical consultations will take place during 2005 and 2006 on the topics listed below. These standard-setting initiatives are not expected to be completed prior to April 2006 and, therefore, will not be ready for adoption at the 2006 ICPM session. Nonetheless, APHIS intends to participate actively and fully in each of these working groups. The U.S. position on each of the topics to be addressed by these various working groups will be developed prior to these working group meetings and will be based on APHIS' technical analysis, information from other U.S. Government agencies, and relevant scientific information from interested stakeholders.

1. Classification of Commodities by Phytosanitary Risk to Level of Processing and Intended Use

This will be developed as a concept standard and provide guidance for NPPOs for facilitating the classification of different types of commodities into phytosanitary risk categories, taking into account the level of processing and the intended use. It will also provide guidance for determining risk management measures expressed as import phytosanitary requirements for plants, plant products, and regulated articles.

2. Guidelines for Formatting/Drafting Pest and Commodity Specific ISPMs

These standards will provide guidelines for formatting a list of pests associated with commodities and phytosanitary measures related to the commodity and for formatting aspects of a data sheet of a pest and/or a phytosanitary measure related to that specific pest.

3. Debarking of Wood and Bark Freedom

This standard will provide a practical and useful description of what constitutes debarked and bark-free wood. This standard, therefore, will propose tolerances for bark in relation to the definitions of debarked and bark-free wood.

4. Guidelines on Sampling of Consignments

This standard will provide guidelines on sampling for import, export, and transit of consignments.

5. Post-Entry Quarantine Facilities

This standard will provide information on the design and operation of containment facilities at different security levels where organisms, including plants and biocontrol agents, can be grown in an environment where there is minimal potential for the escape of pests.

For more detailed information on the above topics, which will be addressed by various working groups established by the ICPM, contact Mr. Narcy Klag (see FOR FURTHER INFORMATION CONTACT above).

APHIS posts draft standards on the Internet (http://www.aphis.usda.gov/ppq/pim/standards/) as they become available and provides information on when comments on standards are due. Additional information on IPPC standards is available on the FAO's Web site at http://www.ippc.int/IPP/En/default.htm. For the most current information on official U.S. participation in IPPC activities, including U.S. positions on standards being considered, contact Mr. Narcy Klag (see FOR FURTHER INFORMATION CONTACT above). Those wishing to provide comments on any of the areas of work being undertaken by the IPPC may do so at any time by responding to this notice (see ADDRESSES above) or by providing comments through Mr. Klag.

NAPPO Standard-Setting Activities

NAPPO, a regional plant protection organization created in 1976 under the IPPC, coordinates the efforts among Canada, the United States, and Mexico to protect their plant resources from the entry, establishment, and spread of harmful plant pests, while facilitating intra- and inter-regional trade. NAPPO conducts its business through panels and annual meetings held among the three member countries. The NAPPO Executive Committee charges individual panels with the responsibility for drawing up proposals for NAPPO positions, policies, and standards. These panels are made up of representatives from each member country who have scientific expertise related to the policy or standard being considered. Proposals drawn up by the individual panels are circulated for review to Government and industry officials in Canada, Mexico, and the United States, who may suggest revisions. In the United States, draft standards are circulated to industry, States, and various Government agencies for consideration and comment. The draft standards are posted on the Internet at http://www.aphis.usda.gov/ppq/pim/standards/; interested persons may submit comments via that Web site. Once revisions are made, the proposal is sent to the NAPPO working group and the NAPPO standards panel for technical reviews and then to the Executive Committee for final approval, which is granted by consensus.

The annual NAPPO meeting is scheduled for October 17-21, 2005, in Puerto Vallarta, Mexico. The NAPPO Executive Committee meeting will take place on October 16, 2005, and a special session will be held on October 17, 2005, to solicit comment from industry groups so that suggestions can be incorporated into the NAPPO work plan for the 2006 NAPPO year. The Deputy Administrator for PPQ is a member of the NAPPO Executive Committee. The Deputy Administrator intends to participate in the proceedings and will discuss or comment on APHIS' position on any standard up for adoption or any proposals to develop new standards.

The work plan for 2005 was established after the October 2004 Annual Meeting in Vancouver, Canada. The Deputy Administrator for PPQ participated in establishing this NAPPO work plan (see panel assignments below). Below is a summary of current panel assignments as they relate to the ongoing development of NAPPO standards. The United States (i.e., USDA/APHIS) intends to participate actively and fully in the work of each of these panels. The U.S. position on each topic will be guided and informed by the best scientific information available on each of these topics. For each of the following panels, the United States will consider its position on any draft standard after it reviews a prepared draft. Information regarding the following NAPPO panel topics, assignments, activities, and updates on meeting times and locations may be obtained from the NAPPO homepage at http://www.nappo.org or by contacting Mr. Narcy Klag (see FOR FURTHER INFORMATION CONTACT above).

1. Accreditation Panel

The panel will develop an audit protocol for reviewing compliance with the NAPPO laboratory accreditation standard (RSPM No. 9). They will then use this protocol to audit the programs in the three NAPPO countries starting with the United States. They will review and update the current NAPPO laboratory accreditation standard (RSPM No. 9).

2. Biological Control Panel

This panel will complete the Taxonomic Resources Position Paper, develop guidelines for the movement of commercial shipments of arthropod biological control agents among NAPPO member countries, and exchange information on biological control programs in the NAPPO countries.

3. Biotechnology Panel

This panel will continue to develop a NAPPO standard for the review of products of biotechnology that focuses on the assessment of the potential to present a plant pest risk. The final module, importation for uses other than propagation, will be developed.

4. Citrus Panel

The panel will update the pest lists in the Citrus Standard, based on new pest information.

5. Electronic Phytosanitary Certification Panel

This panel will develop guidelines for the electronic transmission of phytosanitary certificates.

6. Forestry Panel

This panel will coordinate the implementation of ISPM 15 by NAPPO member countries.

7. Fruit Panel

The panel will coordinate with other appropriate panels to start the development of a standard for the use of genetically modified fruit flies in North America.

8. Grapevine Panel

The panel will provide direction and support to the Technical Advisory Group to include insects and nematodes in the NAPPO standard for grapevines (RSPM No. 15). They will participate in the development of the NAPPO standard on plants for planting.

9. Potato Panel

The panel will develop an appendix to RSPM No. 3 on nematode identification and update appendix 5 based on the latest molecular information for potato virus YN (PVYn).

10. Propagative Material Panel

The panel will complete the standard on plants for planting.

11. Standards Panel

The panel will continue to provide updates on standards for the NAPPO newsletter, coordinate the review of new and amended NAPPO standards and ensure that comments received during the country consultation phase are incorporated as appropriate, organize conference calls and prepare NAPPO discussion documents for possible use at the IPPC, and promote implementation of recently adopted standards.

The PPQ Deputy Administrator, as the official U.S. delegate to NAPPO, intends to participate in the adoption of these regional plant health standards, including the work described above, once they are completed and ready for such consideration.

The information in this notice includes all the information available to us on NAPPO standards currently under development or consideration. For updates on meeting times and for information on the working panels that may become available following publication of this notice, check the NAPPO Web site on the Internet at http://www.nappo.org or contact Mr. Narcy Klag (see FOR FURTHER INFORMATION CONTACT above). Information on official U.S. participation in NAPPO activities, including U.S. positions on standards being considered, may also be obtained from Mr. Klag. Those wishing to provide comments on any of the topics being addressed by any of the NAPPO panels may do so at any time by responding to this notice (see ADDRESSES above) or by transmitting comments through Mr. Klag.

Done in Washington, DC, this 18th day of October 2005.
Elizabeth E. Gaston,
Acting Administrator, Animal and Plant Health Inspection Service.

[FR Doc. E5-5853 Filed 10-21-05; 8:45 am]

BILLING CODE 3410-34-P